DEPARTMENT OF HEALTH AND HUMAN SERVICES

Centers for Medicare & Medicaid Services

42 CFR Chapter IV

Office of the Secretary

45 CFR Subtitle A

[CMS-9928-NC]

RIN 0938-ZB39

Reducing Regulatory Burdens Imposed by the Patient Protection and Affordable Care Act & Improving Healthcare Choices To Empower Patients

AGENCY: Centers for Medicare & Medicaid Services (CMS), HHS.

ACTION: Request for information.

SUMMARY: The Department of Health and Human Services (HHS) is actively working to reduce regulatory burdens and improve health insurance options under Title I of the Patient Protection and Affordable Care Act. Executive Order 13765, “Minimizing the Economic Burden of the Patient Protection and Affordable Care Act Pending Repeal,” directs the Secretary of Health and Human Services to achieve these aims. HHS seeks comment from interested parties to inform its ongoing efforts to create a more patient-centered health care system that adheres to the key principles of affordability, accessibility, quality, innovation, and empowerment.

DATES: Comments must be submitted on or before July 12, 2017.

ADDRESSES: You may submit comments in one of three ways (please choose only one of the ways listed):

1. Electronically. You may submit electronic comments to http://www.regulations.gov. Follow the “Submit a comment” instructions.

2. By regular mail. You may mail written comments to the following address ONLY: Centers for Medicare & Medicaid Services, Department of Health and Human Services, Attention: CMS-9928-NC, P.O. Box 8016, Baltimore, MD 21244-8016.

Please allow sufficient time for mailed comments to be received before the close of the comment period.

3. By express or overnight mail. You may send written comments to the following address ONLY: Centers for Medicare & Medicaid Services, Department of Health and Human Services, Attention: CMS-9928-NC, Mail Stop C4-26-05, 7500 Security Boulevard, Baltimore, MD 21244-1850.

FOR FURTHER INFORMATION CONTACT: Vanessa Jones, (202) 690-7000.

SUPPLEMENTARY INFORMATION:

Submission of Comments: All submissions received must include the Agency name CMS-9928-NC for this notice. All comments received may be posted without change to http://www.regulations.gov, including any personal information provided.

I. Background

On January 20, 2017, President Trump issued Executive Order 13765, “Minimizing the Economic Burden of the Patient Protection and Affordable Care Act Pending Repeal,” to minimize the unwarranted economic and regulatory burdens of the Patient Protection and Affordable Care Act (PPACA) (Pub. L. 111-148). To meet these objectives, the President directed the Secretary of Health and Human Services (the Secretary) and the heads of all other executive departments and agencies with authorities and responsibilities under the PPACA, to the maximum extent permitted by law, to afford the States more flexibility and control to create a more free and open health care market; provide relief from any provision or requirement of the PPACA that would impose a fiscal burden on any State or a cost, fee, tax, penalty, or regulatory burden on individuals, families, health care providers, health insurers, patients, recipients of health care services, purchasers of health insurance, or makers of medical devices, products, or medications; provide greater flexibility to States and cooperate with them in implementing health care programs; and encourage the development of a free and open market in interstate commerce for the offering of health care services and health insurance, with the goal of achieving and preserving maximum options for patients and consumers.

The Department of Health and Human Services (HHS) is the federal government's principal agency charged with protecting the health of all Americans and providing essential human services. HHS's responsibilities include Medicare, Medicaid, increasing access to care and private health coverage, support for public health preparedness and emergency response, biomedical research, substance abuse and mental health treatment and prevention, assurance of safe and effective drugs and other medical products, protection of our Nation's food supply, assistance to low income families, the Head Start program, services to older Americans, and direct health services delivery. HHS is comprised of staff divisions and operating divisions, many of which are responsible for promulgating regulations pursuant to HHS's statutory authority.

Among HHS's goals is to establish a robust and resilient framework for each HHS division to undertake a periodic, thoughtful analysis of its significant existing regulations issued under Title I of the PPACA, to determine whether each rule advances or impedes HHS priorities of stabilizing the individual and small group health insurance markets; empowering patients and promoting consumer choice; enhancing affordability; and returning regulatory authority to the States. We seek public input on changes that could be made, consistent with current law, to existing regulations under HHS's jurisdiction that would result in a more streamlined, flexible, and less burdensome regulatory structure, including identifying regulations that eliminate jobs or inhibit job creation; are outdated, unnecessary, or ineffective; impose costs that exceed benefits; or create a serious inconsistency or otherwise interfere with regulatory reform initiatives and policies.

Since the first weeks of the Administration, HHS has worked to reduce burdens and improve health insurance options under the provisions of Title I of the PPACA for which HHS has jurisdiction. On February 17, 2017, HHS published a proposed rule in the Federal Register entitled, “Patient Protection and Affordable Care Act; Market Stabilization,” (82 FR 10980) containing regulatory changes that are critical to stabilizing the individual and small group health insurance markets. After receiving and considering public comment, HHS published the Patient Protection and Affordable Care Act; Market Stabilization Final rule on April 18, 2017 (82 FR 18346). The new rules will place downward pressure on premiums, curb abuses, and encourage full-year enrollment by expanding pre-enrollment verification of eligibility for new exchange enrollees using special enrollment periods; encourage patients to avoid coverage lapses; provide greater flexibility to issuers related to actuarial value of plans; return to the States the authority and means to assess issuer network adequacy; revise the timeline for qualified health plan (QHP) certification and rate review to give issuers flexibility to incorporate benefit changes and maximize the number of coverage options available to patients; and more closely align the open enrollment period for the individual market with the employer-sponsored insurance market and Medicare, thus helping to lower prices for Americans by reducing adverse selection. We have also taken a number of other steps to reduce burden, improve choices, and stabilize the insurance market:

• Issued guidance announcing HHS's intent to propose new health coverage enrollment options for small businesses enrolling through the Federally-facilitated Small Business Health Options Program (FF-SHOP), reducing burdens and making it easier for small employers and their employees to purchase coverage.

• Announced a new streamlined and simplified direct enrollment process for consumers signing up for individual market coverage with the assistance of web-brokers or issuers in states with Exchanges that rely on HealthCare.gov for their eligibility and enrollment functions.

• Issued guidance to States explaining their freedom to seek innovative approaches to lowering premiums and protecting consumers via State innovation waivers under section 1332 of the PPACA, which included new information to help states seek waivers from requirements in Title I of the PPACA, and establish high-risk pools/state-operated reinsurance programs.

• Extended the HHS Risk Adjustment and Data Validation (HHS-RADV) pilot by another year, providing needed flexibility for issuers to adapt to the new HHS-RADV audit tool and protocols to ensure that lessons learned from the first pilot year are implemented effectively, and enabling the Centers for Medicaid & Medicare Services (CMS) to ensure that issuers are compliant with all HHS-RADV requirements, increasing the stability of the markets and the integrity of risk adjustment transfers.

• Adjusted the QHP certification calendar, to provide issuers additional time to prepare and States additional time to review 2018 products and rates with greater certainty in response to recent policy changes.

• Issued guidance to issuers allowing patients to keep their transitional individual and small group insurance plans in 2018.

These initial steps will help issuers and States work with HHS to achieve shared goals, including stabilizing the individual and small group health insurance markets; empowering patients and promoting consumer choice; enhancing affordability; and affirming the traditional authority of the States in regulating the business of health insurance. In this Request for Information, HHS now seeks input from the public on other changes within its authority and consistent with the law to further achieve these aims.

II. Solicitation of Comments

HHS is interested in soliciting public comments about changes to existing regulations or guidance, or other actions within HHS's authority, that could further the following goals with respect to the individual and small group health insurance markets:

1. Empowering patients and promoting consumer choice. What activities would best inform consumers and help them choose a plan that best meets their needs? Which regulations currently reduce consumer choices of how to finance their health care and health insurance needs? Choice includes the freedom to choose how to finance one's healthcare, which insurer to use, and which provider to use.

2. Stabilizing the individual, small group, and non-traditional health insurance markets. What changes would bring stability to the risk pool, promote continuous coverage, increase the number of younger and healthier consumers purchasing plans, reduce uncertainty and volatility, and encourage uninsured individuals to buy coverage?

3. Enhancing affordability. What steps can HHS take to enhance the affordability of coverage for individual consumers and small businesses?

4. Affirming the traditional regulatory authority of the States in regulating the business of health insurance. Which HHS regulations or policies have impeded or unnecessarily interfered with States' primary role in regulating the health insurance markets they know best?

This is a request for information only. Respondents are encouraged to provide complete but concise responses to the questions outlined above. We note that a response to every question is not required. This request for information is issued solely for information and planning purposes; it does not constitute a notice of proposed rulemaking or request for proposals, applications, proposal abstracts, or quotations. This request for information does not commit the United States Government (“Government”) to contract for any supplies or services or make a grant award. Further, HHS is not seeking proposals through this request for information and will not accept unsolicited proposals. Respondents are advised that the Government will not pay for any information or administrative costs incurred in response to this request for information; all costs associated with responding to this request for information will be solely at the interested party's expense. Not responding to this request for information does not preclude participation in any future rulemaking or procurement, if conducted. It is the responsibility of the potential responders to monitor this request for information announcement for additional information pertaining to this request. We also note that HHS will not respond to questions about the policy issues raised in this request for information. HHS may or may not choose to contact individual responders. Such communications would only serve to further clarify written responses. Contractor support personnel may be used to review request for information responses. Responses to this notice are not offers and cannot be accepted by the Government to form a binding contract or issue a grant. Information obtained as a result of this request for information may be used by the Government for program planning on a non-attribution basis. Respondents should not include any information that might be considered proprietary or confidential. This request for information should not be construed as a commitment or authorization to incur cost for which reimbursement would be required or sought. All submissions become Government property and will not be returned. HHS may publically post the comments received, or a summary thereof. While responses to this request for information do not bind HHS to any further actions related to the response, all submissions will be made publicly available on http://www.regulations.gov.

III. Collection of Information Requirements

This document does not impose information collection requirements, that is, reporting, recordkeeping or third-party disclosure requirements. This request for information constitutes a general solicitation of comments. In accordance with the implementing regulations of the Paperwork Reduction Act (PRA) at 5 CFR 1320.3(h)(4), information subject to the PRA does not generally include “facts or opinions submitted in response to general solicitations of comments from the public, published in the Federal Register or other publications, regardless of the form or format thereof, provided that no person is required to supply specific information pertaining to the commenter, other than that necessary for self-identification, as a condition of the agency's full consideration of the comment.” Consequently, this document need not be reviewed by the Office of Management and Budget under the authority of the Paperwork Reduction Act of 1995 (44 U.S.C. 3501 et seq.).

Dated: June 6, 2017.
Seema Verma,
Administrator, Centers for Medicare & Medicaid Services.
Dated: June 7, 2017.
Thomas E. Price,
Secretary, Department of Health and Human Services.

[FR Doc. 2017-12130 Filed 6-8-17; 4:15 pm]

BILLING CODE 4120-01-P